DEPARTMENT OF JUSTICE

[OMB Number 1140-0100]

Agency Information Collection Activities; Proposed eCollection eComments Requested; Revision of a Previously Approved Collection; Report of Multiple Sale or Other Disposition of Certain Rifles

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until February 26, 2024.

FOR FURTHER INFORMATION CONTACT: If you have additional comments especially on the estimated public burden or associated response time, suggestions, or need a copy of the proposed information collection instrument with instructions or additional information, contact: Matthew Grim, EPS/NTCD/TORM, either by mail at 244 Needy Rd., Martinsburg, WV 25405, by email at matthew.grim@atf.gov, or telephone at 304-260-3683.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Licensed dealers and pawnbrokers in Arizona, California, New Mexico and Texas must submit to ATF reports of multiple sales or other dispositions of certain rifles whenever, at one time or during any five consecutive business days, you sell to an unlicensed person or otherwise dispose of two or more semi-automatic rifles capable of accepting a detachable magazine and with a caliber greater than .22 (including .223/5.56 caliber). The required information must be submitted on ATF F3310.12. The information collection (IC) OMB #1140-0100 is being revised to expand the FFL population required to complete the form. ATF is now requiring Type 07 FFLs and Type 08 FFLs in these States to also report multiple sales of certain rifles on ATF Form 3310.12.

Overview of This Information Collection

1. Type of Information Collection: Revision of a previously approved collection.

2. The Title of the Form/Collection: Report of Multiple Sale or Other Disposition of Certain Rifles.

3. The agency form number, if any, and the applicable component of the Department sponsoring the collection: Form number: ATF Form 3310.12. Component: Bureau of Alcohol, Tobacco, Firearms and Explosives, U.S. Department of Justice.

4. Affected public who will be asked or required to respond, as well as the obligation to respond: Affected Public: Private Sector-for or not for profit institutions. The obligation to respond is mandatory. The statutory requirements are implemented in title 18 U.S.C. 923(g)(5)(A).

5. An estimate of the total number of respondents and the amount of time estimated for an average respondent to respond: The estimated number of eligible respondents is 15,000 but the estimated number of responses is approximately 12,000, and it will take each respondent 12 minutes to complete their responses.

6. An estimate of the total annual burden (in hours) associated with the collection: The estimated annual public burden associated with this collection is 2,400 hours, which is equal to 12,000 (total responses) * .2 (12 minutes).

7. An estimate of the total annual cost burden associated with the collection, if applicable: The average wage for a firearms sales clerk is $16.70 per hour and postage at $0.51. Accordingly, the total burden on respondents is $46,200.00 annually (2,400 total hourly burden × $16.70 hourly wage rate for a sales clerk) + (postage: $0.51 × 12,000 responses).

Total Burden Hours
Activity | Number of respondents | Frequency | Total annual responses | Time per response (min) | Total annual burden (hours)
DL3 Cost Burden | 15,000 | As needed | 12,000 | 12 | 2,400

If additional information is required contact: Darwin Arceo, Department Clearance Officer, United States Department of Justice, Justice Management Division, Policy and Planning Staff, Two Constitution Square, 145 N Street NE, 4W-218, Washington, DC.

Dated: December 19, 2023.
Darwin Arceo,
Department Clearance Officer for PRA, U.S. Department of Justice.

[FR Doc. 2023-28305 Filed 12-22-23; 8:45 am]

BILLING CODE 4410-FY-P